DEPARTMENT OF ENERGY

Federal Energy Regulatory Commission

[Project No. 15230-002]

Pike Island Hydropower Corporation; Notice of Intent To Prepare an Environmental Assessment

On May 14, 2024, Pike Island Hydropower Corporation filed a license application for the proposed 19.999-megawatt Pike Island Hydroelectric Project No. 15230 (project). The proposed project would be located at the U.S. Army Corps of Engineers' (Corps) Pike Island Locks and Dam on the Ohio River in Belmont County, Ohio and Ohio County, West Virginia. The proposed project would occupy 4.35 acres of federal land administered by the Corps.

In accordance with the Commission's regulations, on September 25, 2025, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to license the project.¹ The EA will be issued and circulated for review by all interested parties. All comments filed on the EA will be analyzed by staff and considered in the Commission's final licensing decision.

¹ The unique identification number for documents relating to this environmental review is EAXX-019-20-000-1756911771.

For public inquiries and assistance with making filings such as interventions, comments, or requests for rehearing, contact the Office of Public Participation at (202) 502-6595 or OPP@ferc.gov.

The application will be processed according to the following schedule. The EA will be issued for a 30-day comment period. Revisions to the schedule may be made as appropriate.

Milestone | Target date
Commission issues EA | June 3, 2026.

Any questions regarding this notice may be directed to Colleen Corballis at (202) 502-8598 or colleen.corballis@ferc.gov.

(Authority: 18 CFR 2.1)

Dated: December 10, 2025.
Debbie-Anne A. Reese,
Secretary.

[FR Doc. 2025-22780 Filed 12-12-25; 8:45 am]

BILLING CODE 6717-01-P